DEPARTMENT OF ENERGY

Federal Energy Regulatory Commission

Combined Notice of Filings #1

Take notice that the Commission received the following electric rate filings:

Docket Numbers: ER14-1641-001.

Applicants: Entergy Louisiana, LLC.

Description: Request for Temporary and Limited Waiver of Entergy Louisiana, LLC [containing unrelated Pro Forma sheets].

Filed Date: 5/25/16.

Accession Number: 20160525-5199.

Comments Due: 5 p.m. ET 6/15/16.

Docket Numbers: ER14-1643-001.

Applicants: Entergy New Orleans, Inc.

Description: Compliance filing: System Agreement—Compliance Update (MSS-3) to be effective 5/31/2014.

Filed Date: 5/25/16.

Accession Number: 20160525-5147.

Comments Due: 5 p.m. ET 6/15/16.

Docket Numbers: ER14-1644-001.

Applicants: Entergy Texas, Inc.

Description: Compliance filing: System Agreement—Compliance Update (MSS-3) to be effective 5/31/2014.

Filed Date: 5/25/16.

Accession Number: 20160525-5148.

Comments Due: 5 p.m. ET 6/15/16.

Docket Numbers: ER16-453-002.

Applicants: Northeast Transmission Development, LLC, PJM Interconnection, L.L.C.

Description: Compliance filing: NTD submits compliance filing per 4/26/2016 order in Docket No. ER16-453 to be effective 2/1/2016.

Filed Date: 5/26/16.

Accession Number: 20160526-5090.

Comments Due: 5 p.m. ET 6/16/16.

Docket Numbers: ER16-1039-001.

Applicants: Midcontinent Independent System Operator, Inc.

Description: Compliance filing: 2016-05-26_DA Market Ext Reopening Compliance Filing to be effective 4/29/2016.

Filed Date: 5/26/16.

Accession Number: 20160526-5087.

Comments Due: 5 p.m. ET 6/16/16.

Docket Numbers: ER16-1290-001.

Applicants: Southwest Power Pool, Inc.

Description: Tariff Amendment: 1628R9 Western Farmers Electric Cooperative NITSA—Amended to be effective 3/1/2016.

Filed Date: 5/26/16.

Accession Number: 20160526-5227.

Comments Due: 5 p.m. ET 6/16/16.

Docket Numbers: ER16-1785-001.

Applicants: New York Independent System Operator, Inc.

Description: Tariff Amendment: NYISO refiling of the Operating Agreement to provide a full set of Attachments to be effective 5/23/2016.

Filed Date: 5/26/16.

Accession Number: 20160526-5165.

Comments Due: 5 p.m. ET 6/16/16.

Docket Numbers: ER16-1786-000.

Applicants: California Independent System Operator Corporation.

Description: § 205(d) Rate Filing: 2016-05-25 Amdt—Variable Energy Resource Settlement & Bid-Cost Recovery Rules to be effective 10/1/2016.

Filed Date: 5/25/16.

Accession Number: 20160525-5146.

Comments Due: 5 p.m. ET 6/15/16.

Docket Numbers: ER16-1787-000.

Applicants: Citizens Sunrise Transmission LLC.

Description: § 205(d) Rate Filing: Annual Operating Cost True-Up Adjustment Informational Filing to be effective 6/1/2016.

Filed Date: 5/26/16.

Accession Number: 20160526-5078.

Comments Due: 5 p.m. ET 6/16/16.

Docket Numbers: ER16-1789-000.

Applicants: ISO New England Inc., New England Power Pool Participants Committee.

Description: § 205(d) Rate Filing: Revisions to Schedule 2—Reactive Supply and Voltage Control Service to be effective 7/26/2016.

Filed Date: 5/26/16.

Accession Number: 20160526-5151.

Comments Due: 5 p.m. ET 6/16/16.

Docket Numbers: ER16-1790-000.

Applicants: Midcontinent Independent System Operator, Inc.

Description: Request for a limited waiver of Midcontinent Independent System Operator, Inc.

Filed Date: 5/26/16.

Accession Number: 20160526-5163.

Comments Due: 5 p.m. ET 6/16/16.

Docket Numbers: ER16-1791-000.

Applicants: PJM Interconnection, L.L.C.

Description: § 205(d) Rate Filing: Revisions to MISO/PJM JOA—CMP and ICP Baseline Changes to be effective 7/25/2016.

Filed Date: 5/26/16.

Accession Number: 20160526-5211.

Comments Due: 5 p.m. ET 6/16/16.

Docket Numbers: ER16-1792-000.

Applicants: El Paso Electric Company.

Description: § 205(d) Rate Filing: Concurrence of EPE to APS Rate Schedule No. 222 to be effective 7/13/2016.

Filed Date: 5/26/16.

Accession Number: 20160526-5233.

Comments Due: 5 p.m. ET 6/16/16.

Docket Numbers: ER16-1793-000.

Applicants: Midcontinent Independent System Operator, Inc.

Description: § 205(d) Rate Filing: 2016-05-26_CMP Baseline Filing—Attachment LL Revisions to be effective 7/25/2016.

Filed Date: 5/26/16.

Accession Number: 20160526-5245.

Comments Due: 5 p.m. ET 6/16/16.

Docket Numbers: ER16-1794-000.

Applicants: Midcontinent Independent System Operator, Inc.

Description: § 205(d) Rate Filing: 2016-05-26_CMP Baseline Filing—RS 8 MISO-Manitoba Hydro SOA to be effective 7/25/2016.

Filed Date: 5/26/16.

Accession Number: 20160526-5253.

Comments Due: 5 p.m. ET 6/16/16.

Docket Numbers: ER16-1795-000.

Applicants: Midcontinent Independent System Operator, Inc.

Description: § 205(d) Rate Filing: 2016-05-26_CMP Baseline Filing—RS 46 Minnkota-MISO Coordination Operating Agr to be effective 7/25/2016.

Filed Date: 5/26/16.

Accession Number: 20160526-5258.

Comments Due: 5 p.m. ET 6/16/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 26, 2016.
Nathaniel J. Davis, Sr.,
Deputy Secretary.

[FR Doc. 2016-13063 Filed 6-2-16; 8:45 am]

BILLING CODE 6717-01-P